NATIONAL SCIENCE FOUNDATION

National Science Board; Committee on Strategy and Budget; Sunshine Act Meetings; Notice

The National Science Board's Committee on Strategy and Budget, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Date and Time: Tuesday, June 15, 2010 at 12 Noon.

Subject Matter: Discussion of proposed NSF budgets and other committee business as reflected in the notice of closure and certification found at: http://www.nsf.gov/nsb/meetings/2010/0615/closing.pdf.

Status: Closed.

This meeting will be held by teleconference originating at the National Science Board Office, National Science Foundation, 4201 Wilson Blvd., Arlington, VA 22230. Please refer to the National Science Board Web site (http://www.nsf.gov/nsb) for information or schedule updates, or contact: Jennie Moehlmann, National Science Foundation, 4201 Wilson Blvd., Arlington, VA 22230. Telephone: (703) 292-7000.

Ann Ferrante,
Writer-Editor.

[FR Doc. 2010-13504 Filed 6-2-10; 11:15 am]

BILLING CODE 7555-01-P